DEPARTMENT OF ENERGY

Federal Energy Regulatory Commission

Combined Notice of Filings #1

July 13, 2005.

Take notice that the Commission received the following electric rate filings:

Docket Numbers: ER01-2398-009.

Applicants: Liberty Electric Power, LLC.

Description: Liberty Electric Power, LLC submits a revised market-based rate tariff pursuant to the Commission's orders issued 5/5/05 in Docket No. ER01-687-003, et al. and 6/7/05 in Docket No. ER01-2398-008.

Filed Date: 07/07/2005.

Accession Number: 20050711-0073.

Comment Date: 5 p.m. Eastern Time on Thursday, July 28, 2005.

Docket Numbers: ER03-1284-002.

Applicants: Blue Canyon Windpower LLC.

Description: Blue Canyon Windpower LLC submits notification of a change in status that reflects a departure from the characteristics the Commission relied upon in granting Blue Canyon authorization to sell wholesale power at market-base rates.

Filed Date: 07/07/2005.

Accession Number: 20050711-0146.

Comment Date: 5 p.m. Eastern Time on Thursday, July 28, 2005.

Docket Numbers: ER03-775-004; ER00-136-003.

Applicants: FortisOntario, Inc.; FortisUS Energy Corporation.

Description: FortisOntario, Inc. & FortisUS Energy Corporation submit notice of a non-material change in status regarding the purchase by their parent, Fortis Inc., of Princeton Light and Power Company, Limited, a Canadian utility.

Filed Date: 07/07/2005.

Accession Number: 20050711-0067.

Comment Date: 5 p.m. Eastern Time on Thursday, July 28, 2005.

Docket Numbers: ER04-657-005; ER04-660-005; ER04-659-005.

Applicants: Mystic I, LLC; Mystic Development, LLC; Fore River Development, LLC.

Description: Mystic I, LLC, Mystic Development, LLC and Fore River Development, LLC's, pursuant to the Commission's 6/8/05 order in Docket No. ER04-657-002, et al., submit revised market-based rate tariffs to incorporate the change in status reporting requirement in Order No. 652.

Filed Date: 07/07/2005.

Accession Number: 20050713-0072.

Comment Date: 5 p.m. Eastern Time on Thursday, July 28, 2005.

Docket Numbers: ER04-691-055; EL04-104-052.

Applicants: Midwest Independent Transmission System Operator, Inc.

Description: Midwest Independent Transmission System Operator, Inc. submits in compliance with the Commission's 6/7/05 order, 111 FERC ¶ 61,367 (2005), proposed revisions to Section 10 (Force Majeure, Indemnification, and Limitations of Liability and Damages) of Midwest ISO's Open Access Transmission and Energy Markets Tariff, FERC Electric Tariff, Third Revised Volume No. 1 to be effective 10/30/04.

Filed Date: 07/07/2005.

Accession Number: 20050711-0074.

Comment Date: 5 p.m. Eastern Time on Thursday, July 28, 2005.

Docket Numbers: ER05-1055-001.

Applicants: Maine Public Service Company.

Description: Maine Public Service Company submits Substitute Third Revised Sheet 209 to FERC Electric Tariff, 1st Revised Volume 4, amending its filing of 5/31/05 in Docket No. ER05-1055-000.

Filed Date: 07/06/2005.

Accession Number: 20050711-0062.

Comment Date: 5 p.m. Eastern Time on Wednesday, July 27, 2005.

Docket Numbers: ER05-1190-000.

Applicants: Pacific Gas & Electric Company.

Description: Pacific Gas & Electric Company submits an unexecuted amended and restated interconnection agreement with the City and County of San Francisco, California (CCSF) and an unexecuted service agreement with CCSF under PG&E's Wholesale Distribution Tariff.

Filed Date: 07/01/2005.

Accession Number: 20050712-0497.

Comment Date: 5 p.m. Eastern Time on Friday, July 22, 2005.

Applicants: Southwest Power Pool, Inc.

Description: Southwest Power Pool, Inc.'s executed service agreement for Network Integration Transmission Service & an executed Network Operating Agreement with Southwestern Public Service Company to serve West Texas Municipal Power Agency load located at the cities of Tulia, Brownsfield, and Floydada, Texas, designated as Service Agreement No.1138.

Filed Date: 07/07/2005.

Accession Number: 20050711-0058.

Comment Date: 5 p.m. Eastern Time on Thursday, July 28, 2005.

Docket Numbers: ER05-1201-000.

Applicants: Midwest Independent Transmission System Operator, Inc.

Description: Midwest Independent Transmission System Operator, Inc submits proposed revisions to its Open Access Transmission and Energy Markets Tariff, FERC Electric Tariff, Third Revised Volume No.1.

Filed Date: 07/07/2005.

Accession Number: 20050711-0059.

Comment Date: 5 p.m. Eastern Time on Thursday, July 28, 2005.

Docket Numbers: ER05-1202-000.

Applicants: Blue Canyon Windpower II, LLC.

Description: Application of Blue Canyon Windpower II, LLC requesting blanket approval for market-based rates for wholesale sale of electric power pursuant to FERC Electric Tariff, Original Volume 1 from its planned 84-turbine wind farm and the granting of certain waivers and blanket approvals.

Filed Date: 07/07/2005.

Accession Number: 20050711-0060.

Comment Date: 5 p.m. Eastern Time on Thursday, July 28, 2005.

Docket Numbers: ER05-1203-000.

Applicants: PJM Interconnection L.L.C.

Description: PJM Interconnection, LLC submits an executed interconnection service agreement with the City of Geneva, and Commonwealth Edison Company.

Filed Date: 07/08/2005.

Accession Number: 20050712-0290.

Comment Date: 5 p.m. Eastern Time on Friday, July 29, 2005.

Docket Numbers: ER05-1204-000.

Applicants: Mystic I, LLC; Mystic Development, LLC; Fore River Development, LLC.

Description: Mystic I, LLC, Mystic Development, LLC and Fore River Development, LLC submits revisions to their market-based rate tariffs.

Filed Date: 07/07/2005.

Accession Number: 20050712-0289.

Comment Date: 5 p.m. Eastern Time on Thursday, July 28, 2005.

Docket Numbers: ER05-1205-000.

Applicants: PacifiCorp.

Description: PacifiCorp submits revisions to Sheet Nos. 297-8, 297-33, 297-82 and 297-89 to PacifiCorp's Open Access Transmission Tariff, FERC Electric Tariff, 5th Revised Volume No. 11.

Filed Date: 07/08/2005.

Accession Number: 20050712-0288.

Comment Date: 5 p.m. Eastern Time on Friday, July 29, 2005.

Docket Numbers: ER96-780-011; ER00-3240-004, ER01-1633-002.

Applicants: Southern Company Services, Inc.

Description: Southern Company Services, Inc., on behalf of Alabama Power Company, Georgia Power Company, Gulf Power Company, Mississippi Power Company, Savannah Electric and Power Company and Southern Power Company (including two of Southern Power's Exempt Wholesale Generator subsidiaries) submits notification of a change in status with regard to the characteristics that the FERC previously relied upon in granting market-based rate authority.

Filed Date: 07/07/2005.

Accession Number: 20050711-0061.

Comment Date: 5 p.m. Eastern Time on Thursday, July 28, 2005.

Docket Numbers: ER97-2364-008; ER97-4235-007, ER98-497-007, ER98-2371-005.

Applicants: San Diego Gas & Electric Company.

Description: San Diego Gas & Electric Company submits an amendment to the refund report filed 6/3/03 in Docket No. ER97-4235-005, et al.

Filed Date: 07/08/2005.

Accession Number: 20050707-5068.

Comment Date: 5 p.m. Eastern Time on Friday, July 29, 2005.

Docket Numbers: ER98-511-005; ER97-4345-016.

Applicants: Oklahoma Gas and Electric Company; OGE Energy Resources, Inc.

Description: Oklahoma Gas and Electric Company and OGE Energy Resources, Inc.'s revised versions of their respective market-based rate tariffs and additional information supporting OGE Companies' 2/7/05 updated market power analysis, in compliance with the Commission's 6/7/05 Order, 111 FERC ¶ 61,368 (2005).

Filed Date: 07/07/2005.

Accession Number: 20050707-4005.

Comment Date: 5 p.m. Eastern Time on Thursday, July 28, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Linda Mitry,
Deputy Secretary.

[FR Doc. E5-3856 Filed 7-19-05; 8:45 a.m.]

BILLING CODE 6717-01-P